DEPARTMENT OF AGRICULTURE

Forest Service

Assessment Report of Ecological/Social/Economic Sustainability, Conditions, and Trends for the Tonto National Forest

AGENCY: Forest Service, USDA.

ACTION: Notice of initiating the assessment phase of the Tonto National Forest land management plan revision.

SUMMARY: The Tonto National Forest, located in Arizona, is initiating the forest planning process pursuant to the 2012 Forest Planning Rule. This process results in a Forest Land Management Plan which describes the strategic direction for management of forest resources for the next ten to fifteen years on the Tonto National Forest. The first phase of the process, the assessment phase, has begun and interested parties have been invited to contribute in the development of the assessment (36 CFR 219.6). The Forest hosted a series of listening sessions with key stakeholders in January 2014, and will be hosting workshops in March 2014. Additional information on public participation opportunities will be available on the project Web site. The trends and conditions identified in the assessment will help in identifying the need for change, in the development of plan components.

DATES: A draft of the assessment report for the Tonto National Forest is expected to be completed by early to mid-winter 2014/2015 and will be posted on the following Web site at www.fs.usda.gov/goto/TontoForestPlanRevision.

From January 2014 through November 2014, the public is invited to engage in a collaborative process to identify relevant information and local knowledge to be considered for the assessment. The Forest will then initiate procedures pursuant to the NEPA and prepare a forest plan revision. The Forest will again be inviting the public to help us identify the appropriate plan components that will become a proposed action for the land management plan revision.

ADDRESSES: Written comments or questions concerning this notice should be addressed to Tonto National Forest, Attn.: Plan Revision, 2324 E. McDowell Road, Phoenix, AZ 85006.

FOR FURTHER INFORMATION CONTACT: Ken Born, Forest Planner, 602-225-5280. Individuals who use telecommunication devices for the deaf (TDD) may call the Federal Information Relay Service (FIRS) at 1-800-877-8339 between 5 a.m. and 5 p.m., Pacific Time, Monday through Friday. More information on the planning process can also be found on the Tonto National Forest Web site at www.fs.usda.gov/goto/TontoForestPlanRevision.

SUPPLEMENTARY INFORMATION: The National Forest Management Act (NFMA) of 1976 requires that every National Forest System (NFS) unit develop a land management plan. On April 9, 2012, the Forest Service finalized its land management planning rule (2012 Planning Rule), which provides broad programmatic direction to National Forests and National Grasslands for developing and implementing their land management plans. Forest plans describe the strategic direction for management of forest resources for ten to fifteen years, and are adaptive and amendable as conditions change over time.

Under the 2012 Planning Rule, the assessment of ecological, social, and economic trends and conditions is the first stage of the planning process. The second stage is a development and decision process guided, in part, by the National Environment Policy Act (NEPA) and includes the preparation of a draft environmental impact statement and revised Forest Plan for public review and comment, and the preparation of the final environmental impact statement and revised Forest Plan. The third stage of the process is monitoring and feedback, which is ongoing over the life of the revised forest plans.

With this notice, the agency invites other governments, non-governmental parties, and the public to contribute to the development of the assessment report. The assessment will rapidly evaluate the sustainability of existing ecological, economic, and social conditions and trends within the context of the broader landscape. It will help inform the planning process through the use of Best Available Scientific Information, while also taking into account other forms of knowledge, such as local information, national perspectives, and native knowledge. Lastly, the assessment will help identify the need to change the existing 1985 plan. Collaboration as part of the assessment phase supports the development of relationships of key stakeholders throughout the plan revision process, and is an essential step to understanding current conditions, available data, and feedback needed to support a strategic, efficient planning process.

As public meetings, other opportunities for public engagement, and public review and comment opportunities are identified to assist with the development of the forest plan revision, public announcements will be made, notifications will be posted on the Forest's Web site at www.fs.usda.gov/goto/TontoForestPlanRevision and information will be sent out to the Forest's mailing list. If anyone is interested in being on the Forest's mailing list to receive these notifications, please contact Ken Born, Forest Planner, at the mailing address identified above, by sending an email to tontoplan@fs.fed.us.

Responsible Official

The responsible official for the revision of the land management plan for the Tonto National Forest is Neil Bosworth, Forest Supervisor, Tonto National Forest, 2324 E. McDowell Road, Phoenix, AZ 85006.

Dated: February 18, 2014.
Neil J. Bosworth,
Forest Supervisor.

[FR Doc. 2014-04006 Filed 2-25-14; 8:45 am]

BILLING CODE 3410-11-P